DEPARTMENT OF HEALTH AND HUMAN SERVICES

Centers for Disease Control and Prevention

Advisory Committee on Immunization Practices (ACIP)

AGENCY: Centers for Disease Control and Prevention (CDC), Department of Health and Human Services (HHS).

ACTION: Notice of meeting.

SUMMARY: In accordance with the Federal Advisory Committee Act, the Centers for Disease Control and Prevention (CDC), announces the following meeting of the Advisory Committee on Immunization Practices (ACIP). This meeting is open to the public, limited only by room seating. The meeting room accommodates approximately 400 people. Time will be available for public comment. The public is welcome to submit written comments in advance of the meeting. Comments should be submitted in writing by email to the contact person listed below. The deadline for receipt is June 11, 2018. Written comments must include full name, address, organizational affiliation, email address of the speaker, topic being addressed and specific comments. Written comments must not exceed one single-spaced typed page with 1-inch margins containing all items above. Only those written comments received 10 business days in advance of the meeting will be included in the official record of the meeting. Public comments made in attendance must be no longer than 3 minutes and the person giving comments must attend the public comment session at the start time listed on the agenda. Time for public comments may start before the time indicated on the agenda. The meeting will be webcast live via the World Wide Web; for instructions and more information on ACIP please visit the ACIP website: http://www.cdc.gov/vaccines/acip/index.html.

DATES: The meeting will be held on June 20, 2018, 8:00 a.m. to 5:30 p.m., EDT, and June 21, 2018, 8:30 a.m. to 12:30 p.m. EDT.

ADDRESSES: CDC, 1600 Clifton Road NE, Tom Harkin Global Communications Center, Kent ‘Oz’ Nelson Auditorium, Atlanta, GA 30329-4027.

FOR FURTHER INFORMATION CONTACT: Stephanie Thomas, ACIP Committee Management Specialist, CDC, NCIRD, telephone 404-639-8836, email ACIP@cdc.gov.

SUPPLEMENTARY INFORMATION: Purpose: The committee is charged with advising the Director, CDC, on the use of immunizing agents. In addition, under 42 U.S.C. 1396s, the committee is mandated to establish and periodically review and, as appropriate, revise the list of vaccines for administration to vaccine-eligible children through the Vaccines for Children (VFC) program, along with schedules regarding dosing interval, dosage, and contraindications to administration of vaccines. Further, under provisions of the Affordable Care Act, section 2713 of the Public Health Service Act, immunization recommendations of the ACIP that have been approved by the Director of the Centers for Disease Control and Prevention and appear on CDC immunization schedules must be covered by applicable health plans.

Matters to be Considered: The agenda will include discussions on Influenza vaccines, anthrax vaccine, Japanese encephalitis vaccines, human papillomavirus vaccines, pneumococcal vaccines, zoster vaccines, pertussis vaccines, and mumps. A recommendation vote is scheduled for Influenza vaccines, anthrax vaccine. A tentative vote is scheduled human papillomavirus vaccines. Agenda items are subject to change as priorities dictate. For updated information on the meeting agenda visit https://www.cdc.gov/vaccines/acip/meetings/meetings-info.html.

The Director, Management Analysis and Services Office, has been delegated the authority to sign Federal Register notices pertaining to announcements of meetings and other committee management activities, for both the Centers for Disease Control and Prevention and the Agency for Toxic Substances and Disease Registry.

Elizabeth Millington,
Acting Director, Management Analysis and Services Office, Centers for Disease Control and Prevention.

[FR Doc. 2018-09097 Filed 4-30-18; 8:45 am]

BILLING CODE 4163-18-P